DEPARTMENT OF HOMELAND SECURITY

Federal Emergency Management Agency

44 CFR Part 67

[Docket ID FEMA-2011-0002; Internal Agency Docket No. FEMA-B-1171]

Proposed Flood Elevation Determinations

Correction

In proposed rule document 2011-1061, appearing on pages 3590-3595, in the issue of Thursday, January 20, 2011, make the following correction:

§ 67.4 [Corrected]

On page 3592 in § 67.4, under ADDRESSES, in “Unincorporated Areas of Nowata County,” in the Maps line, the text is corrected to read as follows:

Unincorporated Areas of Nowata County

Maps are available for inspection at the Nowata County Office, 229 North Maple Street, Nowata, OK 74048.

[FR Doc. C1-2011-1061 Filed 2-11-11; 8:45 am]

BILLING CODE 1505-01-D